NATIONAL ARCHIVES AND RECORDS ADMINISTRATION

[NARA-2022-058]

Agency Information Collection Activities: Proposed Collection; Comment Request

AGENCY: National Archives and Records Administration (NARA).

ACTION: Notice.

SUMMARY: NARA is proposing to request that the Office of Management and Budget (OMB) renew approval of an information collection our Office of Government Information Services (OGIS) uses to obtain customer intake information and consent as part of its mediation services program. OGIS collects customer name, contact information, case number, information on the customer's concern areas/resolution goals, and documents relating to the underlying Freedom of Information Act/Privacy Act request or appeal as part of its intake process in order to provide mediation services. In some cases, customers also complete a privacy consent form, NA Form 10003, authorizing OGIS to make inquiries on the customer's behalf and authorizing agencies to release to OGIS information and records related to their FOIA/Privacy Act requests and appeals. We invite you to comment on this proposed information collection.

DATES: We must receive written comments on or before September 27, 2022.

ADDRESSES: Send comments to Paperwork Reduction Act Comments (MP), Room 4100; National Archives and Records Administration; 8601 Adelphi Road; College Park, MD 20740-6001, or email them to tamee.fechhelm@nara.gov.

FOR FURTHER INFORMATION CONTACT: Contact Tamee Fechhelm by telephone at 301-837-1694 with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) whether we need the proposed information collection to properly perform our agency functions; (b) our estimate of the burden of the proposed information collection and its accuracy; (c) ways we could enhance the quality, utility, and clarity of the information we collect; (d) ways we could minimize the burden on respondents of collecting the information, including through information technology; and (e) whether this collection affects small businesses. We will summarize any comments you submit and include the summary in our request for OMB approval. All comments will become a matter of public record. In this notice, we solicit comments concerning the following information collection:

Title: Freedom of Information Act (FOIA) Request for Assistance and Consent.

OMB number: 3095-0068.

Agency form number: NA Form 10003.

Type of review: Regular.

Affected public: Individuals or households, business or other for-profit, not-for-profit institutions, and Federal Government.

Estimated number of respondents: 3,676.

Estimated time per response: Ten minutes.

Frequency of response: On occasion.

Estimated total annual burden hours: 609 hours (3,646 responses × 10 minutes/by 60 = 608 and 30 responses × 2 minutes/by 60 = 1).

Abstract: In order to fulfill its Government-wide statutory mission to mediate FOIA disputes between requesters and agencies, OGIS must communicate with Government departments and agencies regarding the customer's Freedom of Information Act (FOIA)/Privacy Act of 1974 request or appeal. As a result, OGIS collects intake information from customers who request OGIS's mediation services. This information includes the customer's name, contact information, FOIA case number, information on the customer's concern areas/resolution goals, and documents relating to the underlying Freedom of Information Act/Privacy Act request or appeal. Customers provide this information by phone, fax, email, or mail.

OGIS and other agencies must handle FOIA and Privacy Act-protected case information in conformity with the requirements of the FOIA and Privacy Act, including 5 U.S.C. 552a(b), which prohibits agencies from releasing Privacy Act-protected information without an already-established routine use or consent of the person to whom the information pertains. In accord with this requirement, a subset of customers also must fill out a privacy consent form, NA Form 10003, if dealing with an agency that has not published a system of records notice with a routine use for release of information to OGIS.

OGIS uses the information customers provide in this information collection to contact customers, request information on the customer's case from other Federal agencies, and provide the requested assistance. Without the information submitted in the intake process and the consent form, OGIS would be unable to get the information from other agencies or fulfill its mediation mission.

Swarnali Haldar,
Executive for Information Services/CIO.

[FR Doc. 2022-16266 Filed 7-28-22; 8:45 am]

BILLING CODE 7515-01-P